UNIFIED CARRIER REGISTRATION PLAN

Sunshine Act Meeting Notice; Correction; Unified Carrier Registration Plan Board of Directors Meeting

AGENCY: Unified Carrier Registration Plan.

ACTION: Notice; correction.

SUMMARY: This document corrects the Conference ID listed in a Sunshine Act Notice published in the Federal Register of August 7, 2020.

DATES: August 17, 2020.

FOR FURTHER INFORMATION CONTACT: Alex B. Leath, Chief Legal Officer, Unified Carrier Registration Plan, (205) 521-8899.

SUPPLEMENTARY INFORMATION:

Correction

In Sunshine Act Notice FR Doc. 2020-17446, on page 48073, in the issue of August 7, 2020, in the first column, the Conference ID “996 1775 0976” listed under the heading “Place” is corrected to read “988 5271 2972.”

Alex B. Leath,
Chief Legal Officer, Unified Carrier Registration Plan.

[FR Doc. 2020-18442 Filed 8-18-20; 4:15 pm]

BILLING CODE 4910-YL-P